NUCLEAR REGULATORY COMMISSION

[NRC-2009-0345]

Final Regulatory Guide: Issuance, Availability

AGENCY: Nuclear Regulatory Commission.

ACTION: Notice of issuance and availability of Regulatory Guide (RG) 5.79, “Protection of Safeguards Information.”

FOR FURTHER INFORMATION CONTACT: Robert Norman, U.S. Nuclear Regulatory Commission, Washington, DC 20555-0001, telephone: 301-415-2278 or e-mail: Robert.Norman@nrc.gov.

SUPPLEMENTARY INFORMATION:

I. Introduction

The U.S. Nuclear Regulatory Commission (NRC or Commission) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide (RG) 5.79 “Protection of Safeguards Information,” was issued August 6, 2009 as a Draft Regulatory Guide (DG) for public comment under the temporary identification number DG-5034. RG 5.79 is a new regulatory guide which describes methods the staff of the NRC consider acceptable to implement the general performance requirements specified in Title 10, Section 73.21(a)(i) and (ii), of the Code of Federal Regulations, “Protection of Safeguards Information: Performance Requirements,” (10 CFR 73.21) that establish, implement, and maintain an information protection system that includes the applicable measures for safeguards information (SGI) specified in 10 CFR 73.22, “Protection of Safeguards Information: Specific Requirements,” or 10 CFR 73.23, “Protection of Safeguards Information—Modified Handling: Specific Requirements.” This guide applies to all licensees, certificate holders, applicants, or other persons who produce, receive, or acquire SGI (including SGI with the designation or marking: “Safeguards Information—Modified Handling” (SGI-M)).

The guidance and criteria contained in this document pertain to the protection of SGI as defined in 10 CFR part 73, “Physical Protection of Plants and Materials.” It is intended to assist licensees and other persons who produce, receive, or acquire SGI to establish an information protection system that addresses (1) information to be protected, (2) conditions for access, (3) protection while in use or storage, (4) preparing and marking documents or other matter, (5) reproduction of matter containing SGI, (6) external transmission of documents and material, (7) processing SGI on electronic systems, (8) removal from the SGI category, and (9) destruction of matter containing SGI.

10 CFR 73.21 “Protection of Safeguards Information: Performance Requirements,” requires, in part, that each licensee, certificate holder, applicant, or other person who produces, receives, or acquires Safeguards Information (SGI) shall ensure that it is protected against unauthorized disclosure.

II. Further Information

On August 6, 2009, a Federal Register Notice was issued (74 FR 39343) announcing the availability of DG-5034 for public comment period. The public comment period closed on October 1, 2009. The staff's responses to the public comments received are available through the NRC's Agencywide Documents Access and Management System (ADAMS) under Accession Number ML103270225. The Regulatory Analysis for this Regulatory Guide is available in ADAMS under Accession No. ML103270227. Electronic copies of RG 5.79 are available through the NRC's public Web site under “Regulatory Guides” at http://www.nrc.gov/reading-rm/doc-collections/reg-guides/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland this 1st day of April 2011.
For the Nuclear Regulatory Commission.
Harriet Karagiannis,
Acting Chief, Regulatory Guide Development Branch, Division of Engineering, Office of Nuclear Regulatory Research.

[FR Doc. 2011-8415 Filed 4-7-11; 8:45 am]

BILLING CODE 7590-01-P